ENVIRONMENTAL PROTECTION AGENCY

40 CFR Part 745

Lead; Identification of Dangerous Levels of Lead

CFR Correction

In Title 40 of the Code of Federal Regulations, Parts 700 to 789, revised as of July 1, 2001, on page 503, in § 745.227, add paragraph (i) to read as follows:

§ 745.227 Work practice standards for conducting lead-based paint activities: target housing and child-occupied facilities.

* * * * *

(i) Recordkeeping. All reports or plans required in this section shall be maintained by the certified firm or individual who prepared the report for no fewer than 3 years. The certified firm or individual also shall provide copies of these reports to the building owner who contracted for its services.

[FR Doc. 02-55508 Filed 4-1-02; 8:45 am]

BILLING CODE 1505-01-D